DEPARTMENT OF HEALTH AND HUMAN SERVICES

Substance Abuse and Mental Health Services Administration

Fiscal Year (FY) 2003 Funding Opportunity

AGENCY: Substance Abuse and Mental Health Services Administration, HHS.

ACTION: Notice of funding availability for Community Action Grant for Service Systems Change.

SUMMARY: The Substance Abuse and Mental Health Services Administration (SAMHSA) Center for Mental Health Services announces the availability of FY 2003 funds for the grant program described below. A synopsis of this funding opportunity, as well as many other Federal Government funding opportunities, is also available at the Internet site: www.fedgrants.gov.

This notice is not a complete description of the program; potential applicants must obtain a copy of the Request for Applications (RFA), including Part I, Community Action Grant SM 03-007, Part II, General Policies and Procedures Applicable to all SAMHSA Applications for Discretionary Grants and Cooperative Agreements, and the PHS 5161-1 (Rev. 7/00) application form before preparing and submitting an application.

Funding Opportunity Title: Community Action Grant for Service Systems Change—Short Title: Community Action Grant.

Funding Opportunity Number: SM 03-007.

Catalog of Federal Domestic Assistance (CFDA) Number: 93.243.

Authority: Public Health Service Act, as amended, Title V, Part B, Section 520A, 42 U.S.C. [290bb-32] Priority Mental Health Needs of Regional and National Significance.

Funding Instrument: G.

Funding Opportunity Description: The Substance Abuse and Mental Health Services Administration, Center for Mental Health Services (CMHS) announces the availability of $1,000,000 in funding for Phase II Community Action Grants. Successful Phase I grantees may apply for one-year Phase II grants of up to $150,000 (direct and indirect).

The purpose of the Community Action Grant Program (CAG) is to promote the adoption of exemplary mental health practices in communities around the country. Community Action Grants support consensus building, infrastructure development, and training activities for the organization and delivery of services to children with serious emotional disturbance, adults with serious mental illness, and those with co-occurring substance disorders.

Phase I of the CAG program has supported the development of consensus among key stakeholders with the applicant communities or states to adopt an exemplary practice. When consensus is achieved, grantees begin implementation of the practice. Consensus must be demonstrated through a process evaluation report, memoranda of understanding, funding plans and other documentation that demonstrate stakeholders' firm commitment to adopt the practice. Because of limited funding availability in Fiscal 2003, no applications for Phase I grants will be accepted under this announcement.

Phase II supports implementation through infrastructure development, training, program adaptation and evaluation. Grant funds may be used to provide direct services (therapy, case management, or other interventions to service recipients) only in pilot efforts with a small group of participants in preparation for larger scale implementation.

The two phases of the Community Action Grant operate in sequence to ensure that tested, effective, and documented exemplary practices attain the endorsement and support of the community before they are implemented.

Eligible Applicants: Units of State or local governments, tribal governments and organizations, and domestic private nonprofit organizations such as community-based organizations, faith-based organizations, provider and consumer groups, universities, and health care organizations can apply for CAG.

Because only Phase II grants will be awarded under this announcement, only former or current Community Action Grant Phase I grantees are eligible to apply for Phase II awards. Please see the Project Narrative/Review Criteria Section A, Preconditions for further information.

Due Date for Applications: July 8, 2003.

Estimated Funding Available/Number of Awards: Successful Phase I grantees may apply for one-year Phase II grants of up to $150,000 (direct and indirect). It is expected that six to seven awards will be made in FY 2003 under this announcement. Applications with budgets that exceed $150,000 will be returned without review.

Is Cost Sharing Required: No.

Period of Support: 1 year.

How to Get Full Announcement and Application Materials: Complete application kits may be obtained from: the SAMHSA Mental Health Information Center at (800) 789-2647, Monday through Friday, 8:30 A.M. to 5 P.M., EDT; TDD: (301) 443-9006; Fax: (301) 984-8796; P.O. Box 42490, Washington, DC 20015. The PHS 5161-1 application form and the full text of the funding announcement are also available electronically via SAMHSA's World Wide Web Home Page: http://www.samhsa.gov (Click on “Grant Opportunities”).

Contact for Additional Information: David Morrissette, DSW, Substance Abuse and Mental Health Services Administration, Center for Mental Health Services, Room 11C-22, 5600 Fishers Lane, Rockville, MD 20857, (301) 443-3653, e-mail: dmorriss@samhsa.gov.

Dated: May 5, 2003.
Richard Kopanda,
Executive Officer, Substance Abuse and Mental Health Services Administration.

[FR Doc. 03-11653 Filed 5-8-03; 8:45 am]

BILLING CODE 4162-20-P